DEPARTMENT OF THE INTERIOR

Bureau of Safety and Environmental Enforcement

[Docket ID BSEE-2013-0004; OMB Number 1014-0004; 134E1700D2 EEEE500000 ET1SF0000.DAQ000]

Information Collection Activities: Oil and Gas Well-Completion Operations; Submitted for Office of Management and Budget (OMB) Review; Comment Request

ACTION: 30-Day notice.

SUMMARY: To comply with the Paperwork Reduction Act of 1995 (PRA), we are notifying the public that we have submitted to OMB an information collection request (ICR) to renew approval of the paperwork requirements in the regulations under Subpart E, Oil and Gas Well Completion Operations. This notice also provides the public a second opportunity to comment on the revised paperwork burden of these regulatory requirements.

DATES: You must submit comments by December 13, 2013.

ADDRESSES: Submit comments by either fax (202) 395-5806 or email (OIRA_Submission@omb.eop.gov) directly to the Office of Information and Regulatory Affairs, OMB, Attention: Desk Officer for the Department of the Interior (1014-0004). Please provide a copy of your comments to Bureau of Safety and Environmental Enforcement (BSEE) by any of the means below.

• Electronically: go to http://www.regulations.gov. In the Search box, enter BSEE-2013-0004 then click search. Follow the instructions to submit public comments and view all related materials. We will post all comments.

• Email nicole.mason@bsee.govmailto:cheryl.blundon@mms.gov, fax (703) 787-1546, or mail or hand-carry comments to: Department of the Interior; Bureau of Safety and Environmental Enforcement; Regulations and Standards Branch; Attention: Nicole Mason; 381 Elden Street, HE3313; Herndon, Virginia 20170-4817. Please reference 1014-0004 in your comment and include your name and return address.

FOR FURTHER INFORMATION CONTACT: Nicole Mason, Regulations and Standards Branch, (703) 787-1605, to request additional information about this ICR. To see a copy of the entire ICR submitted to OMB, go to http://www.reginfo.gov (select Information Collection Review, Currently Under Review).

SUPPLEMENTARY INFORMATION: Title: 30 CFR 250, Subpart E, Oil and Gas Well-Completion Operations.

OMB Control Number: 1014-0004.

Abstract: The Outer Continental Shelf (OCS) Lands Act, as amended (43 U.S.C. 1331 et seq. and 43 U.S.C. 1801 et seq.), authorizes the Secretary of the Interior to prescribe rules and regulations necessary for the administration of the leasing provisions of that Act related to mineral resources on the OCS. Such rules and regulations will apply to all operations conducted under a lease, right-of-way, or a right-of-use and easement. Operations on the OCS must preserve, protect, and develop oil and gas resources in the OCS in a manner that is consistent with the need to make such resources available to meet the Nation's energy needs as rapidly as possible; balance orderly energy resources development with protection of the human, marine, and coastal environment; ensure the public a fair and equitable return on OCS resources; and preserve and maintain free enterprise competition.

In addition to the general rulemaking authority of the OCSLA at 43 U.S.C. 1334, section 301(a) of the Federal Oil and Gas Royalty Management Act (FOGRMA), 30 U.S.C. 1751(a), grants authority to the Secretary to prescribe such rules and regulations as are reasonably necessary to carry out FOGRMA's provisions. While the majority of FOGRMA is directed to royalty collection and enforcement, some provisions apply to offshore operations. For example, section 108 of FOGRMA, 30 U.S.C. 1718, grants the Secretary broad authority to inspect lease sites for the purpose of determining whether there is compliance with the mineral leasing laws. Section 109(c)(2) and (d)(1), 30 U.S.C. 1719(c)(2) and (d)(1), impose substantial civil penalties for failure to permit lawful inspections and for knowing or willful preparation or submission of false, inaccurate, or misleading reports, records, or other information. Because the Secretary has delegated some of the authority under FOGRMA to BSEE, 30 U.S.C. 1751 is included as additional authority for these requirements.

These authorities and responsibilities are among those delegated to BSEE. The regulations at 30 CFR part 250, subpart E, concern oil and gas well-completion operations and are the subject of this collection. This request also covers the related Notices to Lessees and Operators (NTLs) that BSEE issues to clarify, supplement, or provide additional guidance on some aspects of our regulations.

The BSEE analyzes and evaluates the information and data collected to ensure that planned well-completion operations will protect personnel and natural resources. They use the analysis and evaluation results in the decision to approve, disapprove, or require modification to the proposed well-completion operations. Specifically, BSEE uses the information to ensure (a) compliance with personnel safety training requirements; (b) crown block safety device is operating and can be expected to function to avoid accidents; (c) proposed operation of the annular preventer is technically correct and provides adequate protection for personnel, property, and natural resources; (d) well-completion operations are conducted on well casings that are structurally competent; and (e) sustained casing pressures are within acceptable limits.

Most responses are mandatory; while others are to obtain or retain benefits. The BSEE will protect proprietary information according to the Freedom of Information Act (5 U.S.C. 552) and its implementing regulations (43 CFR part 2); 30 CFR 250.197, Data and information to be made available to the public or for limited inspection; and 30 CFR part 252, OCS Oil and Gas Information Program.

Frequency: Weekly, monthly, biennially, and vary by section.

Description of Respondents: Potential respondents comprise Federal oil, gas, or sulphur lessees and/or operators, and holders of pipeline rights-of-way.

Estimated Reporting and Recordkeeping Hour Burden: The estimated annual hour burden for this information collection is a total of 40,183 hours. The following chart details the individual components and estimated hour burdens. In calculating the burdens, we assumed that respondents perform certain requirements in the normal course of their activities. We consider these to be usual and customary and took that into account in estimating the burden.

Citation 30 CFR 250 Subpart E | Reporting and recordkeeping requirements | Hour burden | Average number of annual responses | Annual burden hours (rounded)
Requests
502 | Request an exception to shutting in producible wells before moving a well-completion rig or related equipment | 5.5 | 35 exceptions | 193
512 | Request establishment, amendment, or cancellation of well-completion field rules | 11 | 28 field rules | 308
500-531 | General departure and alternative compliance requests not specifically covered elsewhere in Subpart E regulations | 3.5 | 165 requests | 578
Subtotal |  |  | 228 responses | 1,079
Records
506 | Record dates and times of well-completion operations safety meetings | 1 | 360 completions × 2 meetings = 720 | 720
511 | Record results weekly of traveling-block safety device in operations log | 1.5 | 360 completions × 2 recordings = 720 | 1,080
514(d) | Request approval from the District Manager to displace kill-weight fluids to an underbalanced state; submit detailed written procedures with your APM | 3.75 | 106 requests | 398
515(e)(2)(ii) | Allow BSEE access to witness testing, inspections, and information verification. Notify District Manager at least 72 hours prior to shearing ram tests | 1.15 | 21 notifications | 24
517(a) | Record all your BOP test pressures | 1.25 | 360 completions × 4 recordings = 1,440 | 1,800
517(c), (i) | Record time, date, and results of all pressure tests, crew drills, actuations, and inspections of the BOP in driller's report | 6 | 360 completions × 4 recordings = 1,440 | 8,640
517(d)(8) | Function test ROV interventions on your subsea BOP stack; document all test results; make available to BSEE upon request | 10 | 17 wells | 170
517(d)(8)(ii) & (iii) | Notify District Manager at least 72 hours prior to stump/initial test on seafloor; document all test results and make them available to BSEE upon request | 0.75 | 17 notifications | 13
517(d)(9) | Function test autoshear and deadman on your subsea BOP stack during stump test; document all test results; make available to BSEE upon request | 0.75 | 17 completions | 13
517(e) | Record reason for postponing BOP test in driller's report | 0.75 | 34 recordings | 26
517(g)(l) | Document the procedures used for BOP inspections; record results; maintain records for 2 years; make available to BSEE upon request | 7 days × 12 hrs/day = 84 | 99 rigs/once every 3 years = 33 per year | 2,772
517(g)(2) | Request alternative method to inspect a marine riser | Burden covered under 1014-0022 |  | 0
517(h) | Document the procedures used for BOP maintenance; record results; maintain records for 2 years; make available to BSEE upon request | 1.5 | 99 rigs | 149
517(i)(1)-(3) | Record BOP test pressure on pressure charts; onsite rep certify and sign/date reports; document sequential order of BOP/auxiliary testing, pressure, and duration of each test | 3 | 362 completions × 4 recordings = 1,448 | 4,344
Subtotal |  |  | 6,112 responses | 20,149
Submittals
505; 513; 516(a); 526 | Submit Forms BSEE-0123, BSEE-0123S, BSEE-0124, and BSEE-0125 and all accompanying information to conduct well-completion operations; request written approval | Burden included under 1014-0018. |  | 0
515 | Submit a description of your BOP and its components; schematic drawings; independent third-party verification and all supporting information (evidence showing appropriate licenses, has expertise/experience necessary to perform required verifications, etc.) with your APM | 17 | 292 submittals | 4,964
517(d)(8), (9) | Submit test procedures with your APM for approval and relevant supporting data | Burden covered under 1014-0018. |  | 0
518(b) | Submit results of casing pressure testing, calipering, and other evaluations (every 30 days during prolonged operations); notify BSEE if sustained casing pressure is observed on a well | 4.75 | 25 results | 119
526(a); 527 | Submit notification of corrective action | 2 | 68 actions | 136
526(a); 530(a) | Submit a corrective action plan; notify BSEE after completion of corrected action within 30 days | 14 | 68 plans | 952
526(b); 528 | Submit a casing pressure request; any additional information as needed | 9 | 484 requests | 4,356
530(b) | Submit the casing pressure diagnostic test data within 14 days | 2.5 | 54 submittals | 135
Subtotal |  |  | 991 responses | 10,662
Post/Retain
514(c) | Post the number of stands of drill pipe/collars that may be pulled and equivalent well-control fluid volume | 1.5 | 741 postings | 1,112
517(i)(6) | Retain all records including pressure charts, driller's report, referenced documents pertaining to BOP tests, actuations, and inspections at the facility for duration of the activity | 2.5 | 362 records | 905
517(i)(7) | After completion of well, retain all records for 2 years at location conveniently available to BSEE | 2.75 | 362 records | 996
524 | Retain records of casing pressure and diagnostic tests for 2 years or until the well is abandoned | 1.75 | 3,017 records | 5,280
Subtotal |  |  | 4,482 responses | 8,293
Total Hour Burden |  |  | 11,813 Responses | 40,183

Estimated Reporting and Recordkeeping Non-Hour Cost Burden: We have identified no paperwork non-hour cost burdens associated with the collection of information.

Public Disclosure Statement: The PRA (44 U.S.C. 3501, et seq.,) provides that an agency may not conduct or sponsor a collection of information unless it displays a currently valid OMB control number. Until OMB approves a collection of information, you are not obligated to respond.

Comments: Section 3506(c)(2)(A) of the PRA (44 U.S.C. 3501, et seq.,) requires each agency “. . . to provide notice . . . and otherwise consult with members of the public and affected agencies concerning each proposed collection of information . . .” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on August 12, 2013, we published a Federal Register notice (78 FR 48893) announcing that we would submit this ICR to OMB for approval. The notice provided the required 60-day comment period. Also, 30 CFR 250.199 explains that BSEE will accept comments at any time on the information collection requirements and burdens of our 30 CFR 250 regulations. We display the OMB control number and provide the address to which they should send comments. We have received one comment in response to these efforts; however, it was not germane to the paperwork burdens of this ICR.

Public Availability of Comments: Before including your address, phone number, email address, or other personal identifying information in your comment, you should be aware that your entire comment—including your personal identifying information—may be made publicly available at any time. While you can ask us in your comment to withhold your personal identifying information from public review, we cannot guarantee that we will be able to do so.

BSSE Information Collection Clearance Officer: Cheryl Blundon (703) 787-1607.

Dated: October 24, 2013.
Robert W. Middleton,
Deputy Chief, Office of Offshore Regulatory Programs.

[FR Doc. 2013-27074 Filed 11-12-13; 8:45 am]

BILLING CODE 4310-VH-P